DEPARTMENT OF EDUCATION

National Assessment Governing Board Quarterly Board Meeting

AGENCY: National Assessment Governing Board, U.S. Department of Education.

ACTION: Announcement of open and closed meetings.

SUMMARY: This notice sets forth the agenda for the May 12-14, 2016 Quarterly Meeting of the National Assessment Governing Board (hereafter referred to as Governing Board). This notice provides information to members of the public who may be interested in attending the meeting or providing written comments on the meeting. The notice of this meeting is required under § 10(a)(2) of the Federal Advisory Committee Act (FACA).

DATES: The Quarterly Board meeting will be held on the following dates:

• May 12, 2016 from 8:30 a.m. to 6:00 p.m.

• May 13, 2016 from 8:30 a.m. to 5:00 p.m.

• May 14, 2016 from 7:30 a.m. to 12:00 p.m.

ADDRESSES: Marriott Tysons Corner, 8028 Leesburg Pike, Vienna, VA 22182.

FOR FURTHER INFORMATION CONTACT: Munira Mwalimu, Executive Officer/Designated Federal Official, 800 North Capitol Street NW., Suite 825, Washington, DC 20002, telephone: (202) 357-6938, fax: (202) 357-6945.

SUPPLEMENTARY INFORMATION:

Statutory Authority and Function: The National Assessment Governing Board is established under Title III—National Assessment of Educational Progress Authorization Act, Public Law 107-279. Information on the Board and its work can be found at www.nagb.gov.

The Board is established to formulate policy for the National Assessment of Educational Progress (NAEP). The Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

May 12-15, 2016 Committee Meetings

The Board's standing committees will meet to conduct regularly scheduled work, based on agenda items planned for this quarterly Board meeting, and follow-up items as reported in the Board's committee meeting minutes available at http://nagb.gov/what-we-do/board-committee-reports-and-agendas.html.

Detailed Meeting Agenda: May 12-15, 2016

May 12: Assessment Development Committee: Closed Session: 8:30 a.m.-4:00 p.m.

May 12: Executive Committee: Open Session: 4:30 p.m.-6:00 p.m.

May 13: Full Board Meeting:

Full Board: Open Session: 8:30 a.m.-10:00 a.m.; Closed Session: 12:30 p.m.-2:00 p.m.; Open Session 2:30 p.m.-5:00 p.m.

May 13: Committee Meetings

Assessment Development Committee (ADC): Open Session: 10:00 a.m.-10:40 a.m.; Closed Session: 10:45 a.m.-12:15 p.m.

Reporting and Dissemination Committee (R&D): Open Session 10:00 a.m.-12:15 p.m.

Committee on Standards, Design and Methodology (COSDAM): Open Session: 10:00 a.m.-12:15 p.m.

May 14: Full Board and Committee Meetings

Nominations Committee: Closed Session: 7:30 a.m.-8:15 a.m.

Full Board: Open Session: 8:30 a.m.-12:00 p.m.

On May 12, 2016, the Assessment Development Committee will meet in closed session from 8:30 a.m.-4:00 p.m. to review secure test items for U.S. history, civics, geography at grade 8 for the 2018 operational assessment; reading at grades 4, 8, 12 for the 2019 pilot assessment; and mathematics at grades 4 and 8 for the 2019 pilot assessment. This meeting must be conducted in closed session because the test items are secure and have not been released to the public. Public disclosure of the secure test items would significantly impede implementation of the NAEP assessment program if conducted in open session. Such matters are protected by exemption 9(B) of § 552b(c) of Title 5 U.S.C.

Thereafter, on May 12, the Executive Committee will convene in open session from 4:30 p.m. to 6:00 p.m. to conduct regularly scheduled work.

On May 13, the Full Board will meet in open session from 8:30 a.m. to 10:00 a.m. The Board will review and approve the May 12-15, 2016 Board meeting agenda and meeting minutes from the March 2016 Quarterly Board meeting. This session will be followed by a report from the Executive Director of the Governing Board, William Bushaw, followed by an update on the work of the Institute of Education Sciences (IES) provided by Ruth Neild, Deputy Director for Policy and Research, IES. The National Center for Education Statistics (NCES) update will be provided by the Acting Commissioner of NCES, Peggy Carr. The Board will recess for committee meetings at 9:45 a.m. which are scheduled to take place from 10:00 a.m. to 12:15 p.m.

The Committee on Standards, Design and Methodology and the Reporting and Dissemination (R&D) Committee will meet in open session from 10:00 a.m. to 12:15 p.m.

The Assessment Development Committee (ADC) will meet in open session from 10:00 a.m. to 10:40 a.m., and thereafter in closed session from 10:45 a.m. to 12:15 p.m. During the closed session the ADC will continue its review of secure NAEP reading test questions in grades 4, 8, and 12 for the 2019 pilot assessment and mathematics test questions at grades 4 and 8 for the 2019 pilot assessment. These test questions have not been released to the public. Disclosure of the secure NAEP items would significantly impede implementation of the NAEP assessment program if conducted in open session. Such matters are protected by exemption 9(B) of § 552b(c) of Title 5 U.S.C.

The Committee on Standards, Design and Methodology (COSDAM) will meet in open session from 10:00 a.m. to 12:15 p.m.

Following the committee meetings, on May 13, the full Board will meet in closed session from 12:30 p.m. to 2:00 p.m. to receive a briefing and discuss the 2015 NAEP Science Report Card. Results from the science assessment—national results at grades 4, 8, and 12 and state results at grades 4 and 8 have not been released to the public. Following the science presentation, the Board will receive a briefing on the 2015 mathematics results for Puerto Rico at grades 4 and 8, which have not been released to the public. Premature disclosure of the results would significantly impede implementation of the NAEP assessment program if conducted in open session. Such matters are protected by exemption 9(B) of § 552b(c) of Title 5 U.S.C.

On May 13, from 2:30 p.m. to 3:30 p.m., the Board will meet in open session to discuss the Department of Education's STEM initiative.

This session will then be followed by an update on the Board's Strategic Plan, followed by breakout sessions convened to discuss the Strategic Plan in small groups of Board members. Members of the public are welcome to observe the breakout sessions. The May 13 session of the Board meeting will adjourn at 5:00 p.m.

On May 14, the Nominations Committee will meet in closed session from 7:30 a.m. to 8:15 a.m. The Nominations Committee will receive an update on the status of the nominations for terms beginning in October 2016. The committee will then discuss planning for the Board's annual call for nominations for Board terms beginning in October 2017. The 2017 call for nominations is scheduled to start in September 2016. The Nominations Committee's discussions pertain solely to internal personnel rules and practices of an agency and information of a personal nature where disclosure would constitute an unwarranted invasion of personal privacy. As such, the discussions are protected by exemptions 2 and 6 of § 552b(c) of Title 5 of the United States Code.

The full Board will meet in open session on May 14, from 8:30 a.m. to 9:45 a.m. to discuss the Governing Board's preparedness research program. Thereafter, from 10:00 a.m. to 10:45 a.m. the Board will receive an update on committee reports and take action on the release plan for the 2016 NAEP Science Report Card. From 11:00 a.m. to 12:00 p.m., the Board will receive briefings from each breakout session (convened on Friday to discuss the Board's Strategic Plan) and discuss next steps. The May 14, 2016 meeting is scheduled to adjourn at 12:00 p.m.

Access to Records of the Meeting: Pursuant to FACA requirements, the public may also inspect the meeting materials at www.nagb.gov on Thursday, May 13, 2016 by 10:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Pub. L. 107-279, Title III—National Assessment of Educational Progress § 301.

Dated: April 22, 2016.
William J. Bushaw,
Executive Director, National Assessment Governing Board (NAGB), U. S. Department of Education.

[FR Doc. 2016-09870 Filed 4-26-16; 8:45 am]

BILLING CODE P